DEPARTMENT OF LABOR

Employment and Training Administration

[TA-W-72,598]

Nittsu Shoji U.S.A., Inc. Troy, OH; Notice of Termination of Investigation

Pursuant to Section 223 of the Trade Act of 1974, as amended, an investigation was initiated in response to a petition filed on October 16, 2009 by a company official on behalf of workers of Nittsu Shoji U.S.A., Inc., Troy, Ohio.

The petitioner has requested that the petition be withdrawn. Accordingly, the investigation has been terminated. Signed at Washington, DC this 9th day of March, 2010.

Michael W. Jaffe,
Certifying Officer, Division of Trade Adjustment Assistance.

[FR Doc. 2010-6928 Filed 3-29-10; 8:45 am]

BILLING CODE 4510-FN-P